AFRICAN DEVELOPMENT FOUNDATION

Board of Directors Executive Session Meeting

Meeting: African Development Foundation, Board of Directors Executive Session Meeting

Time: Tuesday, February 5, 2013, 9:00 a.m. to 1:00 p.m.

Place: 1400 Eye Street NW., Suite 1000, Washington, D.C. 20005

Date: Tuesday, February 5, 2013

Status:

1. Open session, Tuesday, October 23, 2012, 9:00 a.m. to 11:45 a.m.

2. Closed session, Tuesday, October 23, 2012, 12:00 p.m. to 1:00 p.m.

Shari Berenbach,
President/CEO, USADF.

[FR Doc. 2013-01396 Filed 1-23-13; 8:45 am]

BILLING CODE P